DEPARTMENT OF COMMERCE

National Oceanic and Atmospheric Administration

50 CFR Part 622

[Docket No. 001005281-0369-02; I.D. 082900C]

RIN 0648-AN85

Fisheries of the Caribbean, Gulf of Mexico, and South Atlantic; Coastal Migratory Pelagic Resources of the Gulf of Mexico and South Atlantic; 2000-2001 Catch Specifications for Gulf Group King Mackerel

AGENCY: National Marine Fisheries Service (NMFS), National Oceanic and Atmospheric Administration (NOAA), Commerce.

ACTION: Final rule.

SUMMARY: In accordance with the framework procedure for adjusting management measures of the Fishery Management Plan for the Coastal Migratory Pelagic Resources of the Gulf of Mexico and South Atlantic (FMP), NMFS issues this final rule, applicable to the fishery for Gulf group king mackerel, to reduce the annual total allowable catch (TAC), reinstate a 2-fish per person daily bag limit for captain and crew of for-hire vessels (charter vessels and headboats), and revise the commercial trip limit applicable within the Florida east coast subzone (Miami-Dade County, FL through Volusia County, FL) to increase its flexibility. The intended effect of this final rule is to protect the Gulf group king mackerel stock from overfishing while still allowing catches by the commercial and recreational fisheries.

DATES: This final rule is effective April 30, 2001.

FOR FURTHER INFORMATION CONTACT: Dr. Steve Branstetter, telephone: 727-570-5305, fax: 727-570-5583, e-mail: Steve.Branstetter@noaa.gov.

SUPPLEMENTARY INFORMATION: The fisheries for coastal migratory pelagic resources are regulated under the FMP. The FMP was prepared jointly by the Gulf of Mexico and South Atlantic Fishery Management Councils and was approved by NMFS and implemented by regulations at 50 CFR part 622.

In accordance with the FMP’s framework procedure, the Gulf of Mexico Fishery Management Council (Gulf Council) and South Atlantic Fishery Management Council (South Atlantic Council) recommended, and NMFS published, a proposed rule (65 FR 63837, October 25, 2000) for Gulf group king mackerel to reduce the TAC, reinstate a 2-fish per person daily bag limit for captain and crew of for-hire vessels (charter vessels and headboats), and revise the commercial trip limit applicable within the Florida east coast subzone (Miami-Dade County, FL through Volusia County, FL) to increase its flexibility. The proposed rule described the need and rationale for these measures.

Comments and Responses

The following are the comments received on the proposed rule and NMFS' responses.

Comment 1: One commenter supported the revision of the trip limit for Gulf group king mackerel in the Florida east coast subzone.

Response: NMFS agrees that the more flexible trip limit system will allow fishermen a greater opportunity to meet their quota, while maintaining economic stability in the fishery for the majority of the season.

Comment 2: One commenter opposed the proposed TAC of 10.2 million lb (4.6 million kg), stating that a TAC of more than 10 million lb (4.5 million kg) violates the Gulf Council's maximum fishing mortality threshold (MFMT) for Gulf group king mackerel. The commenter additionally urged NMFS to require the Gulf Council to establish appropriate biomass estimates for maximum sustainable yield (MSY) and optimum yield (OY) so that a minimum stock size threshold (MSST) can be established, and that NMFS require the Gulf Council to pick a level of risk, as identified in the Mackerel Stock Assessment Panel (MSAP) report, associated with MFMT and MSST.

Response: In setting a TAC of 10.2 million lb (4.6 million kg) for Gulf group king mackerel, the Gulf Council considered the comments of its MSAP, Socioeconomic Panel, Scientific and Statistical Committee, and Mackerel Advisory Panel as well as public testimony, and legal requirements of the Magnuson-Stevens Act, as amended by the Sustainable Fisheries Act. Currently, the FMP’s OY target for stock rebuilding and the MFMT are equivalent parameters—a fishing mortality rate that would produce a 30-percent static spawning potential ratio.

Based on the FMP’s currently established OY target, the MSAP calculated a range of annual allowable biological catch (ABC) of 8.2 to 12.8 million lb (3.7 to 5.8 million kg). A TAC of 10.2 million lb (4.6 million kg) represents the median of the ABC range. The median value has a 50-percent chance of not exceeding the fishing mortality that would allow the stock to reach the current OY target, and it has a 50-percent chance of not exceeding MFMT. Therefore, the TAC established by this final rule is consistent with the Sustainable Fisheries Act.

NMFS continues to work cooperatively with the Gulf Council to develop better estimates of biomass-based thresholds and targets that can be used to monitor the status of the stock of Gulf group king mackerel. Nevertheless, development of new or alternative stock threshold and target parameters is beyond the scope of this rule for annual catch specifications as submitted by the Gulf and South Atlantic Councils. Under provisions of the Magnuson-Stevens Act, NMFS can only approve, partially approve, or disapprove proposed actions submitted by the Gulf and South Atlantic Councils for agency review, approval, and implementation. NMFS cannot substitute an alternative action of its own for one of those actions submitted by the Councils.

Classification

This final rule has been determined to be not significant for purposes of Executive Order 12866.

The Chief Counsel for Regulation of the Department of Commerce certified to the Chief Counsel for Advocacy of the Small Business Administration when this rule was proposed that it would not have a significant economic impact on a substantial number of small entities. Only one comment was received regarding the economic impact of the rule; that comment supported the more flexible trip limit provided by the rule. Because the basis for the certification has not changed, a regulatory flexibility analysis was not prepared.

List of Subjects in 50 CFR Part 622

Fisheries, Fishing, Puerto Rico, Reporting and recordkeeping requirements, Virgin Islands.

Dated: March 27, 2001.
William T. Hogarth,
Acting Assistant Administrator for Fisheries, National Marine Fisheries Service.

For the reasons set out in the preamble, 50 CFR part 622 is amended as follows:

PART 622—FISHERIES OF THE CARIBBEAN, GULF, AND SOUTH ATLANTIC

1. The authority citation for part 622 continues to read as follows:

Authority: 16 U.S.C. 1801 et seq.

2. In § 622.39, paragraph (c)(1)(ii) is revised to read as follows:

§ 622.39 Bag and possession limits.

* * * * *

(c) * * *

(1) * * *

(ii) Gulf migratory group king mackerel—2.

* * * * *

3. In § 622.42, paragraph (c)(1)(i) is revised to read as follows:

§ 622.42 Quotas.

* * * * *

(c) * * *

(1) * * *

(i) Gulf migratory group. The quota for the Gulf migratory group of king mackerel is 3.26 million lb (1.48 million kg). The Gulf migratory group is divided into eastern and western zones separated by 87°31′06″ W. long., which is a line directly south from the Alabama/Florida boundary. Quotas for the eastern and western zones are as follows:

(A) Eastern zone—2.25 million lb (1.02 million kg), which is further divided into quotas as follows:

(1) Florida east coast subzone--1,040,625 lb (472,020 kg).

(2) Florida west coast subzone—(i) Southern—1,040,625 lb (472,020 kg), which is further divided into a quota of 520,312 lb (236,010 kg) for vessels fishing with hook-and-line and a quota of 520,312 lb (236,010 kg) for vessels fishing with run-around gillnets.

(ii) Northern—168,750 lb (76,544 kg).

(3) Description of Florida subzones. The Florida east coast subzone is that part of the eastern zone north of 25°20.4′ N. lat., which is a line directly east from the Miami-Dade/Monroe County, FL, boundary. The Florida west coast subzone is that part of the eastern zone south and west of 25°20.4′ N. lat. The Florida west coast subzone is further divided into southern and northern subzones. From November 1 through March 31, the southern subzone is that part of the Florida west coast subzone that extends south and west from 25°20.4′ N. lat. to 26°19.8′ N. lat., a line directly west from the Lee/Collier County, FL, boundary (i.e., the area off Collier and Monroe Counties). From April 1 through October 31, the southern subzone is that part of the Florida west coast subzone that is between 26°19.8′ N. lat. and 25°48′ N. lat., which is a line directly west from the Monroe/Collier County, FL, boundary (i.e., off Collier County). The northern subzone is that part of the Florida west coast subzone that is between 26°19.8′ N. lat. and 87°31′06″ W. long., which is a line directly south from the Alabama/Florida boundary.

(B) Western zone—1.01 million lb (0.46 million kg).

* * * * *

4. In § 622.44, paragraphs (a)(2)(i) and (d)(4)(i) are revised to read as follows:

§ 622.44 Commercial trip limits.

(a) * * *

(2) * * *

(i) Eastern zone-Florida east coast subzone. In the Florida east coast subzone, king mackerel in or from the EEZ may be possessed on board at any time or landed in a day from a vessel with a commercial permit for king mackerel as required under § 622.4(a)(2)(iii) as follows:

(A) From November 1 through January 31—not to exceed 50 fish.

(B) Beginning on February 1 and continuing through March 31—

(1) If 75 percent or more of the Florida east coast subzone quota as specified in § 622.42(c)(1)(i)(A)(1) has been taken—not to exceed 50 fish.

(2) If less than 75 percent of the Florida east coast subzone quota as specified in § 622.42(c)(1)(i)(A)(1) has been taken—not to exceed 75 fish.

* * * * *

(d) * * *

(4) * * *

(i) May not possess red snapper in or from the Gulf in excess of the appropriate vessel trip limit, as specified in paragraphs (d)(1) through (d)(3) of this section.

* * * * *

[FR Doc. 01-7944 Filed 3-29-01; 8:45 am]

BILLING CODE 3510-22-S